DEPARTMENT OF COMMERCE

National Oceanic and Atmospheric Administration

15 CFR Part 922

Notice of Intent To Prepare a Supplemental Draft Environmental Impact Statement for a Proposed Rule Limiting Discharges From Vessels in Cordell Bank, Gulf of the Farallones, and Monterey Bay National Marine Sanctuaries

AGENCY: National Marine Sanctuary Program, National Ocean Service, National Oceanic and Atmospheric Administration, Department of Commerce.

ACTION: Notice of Intent.

SUMMARY: Notice is hereby given that the National Oceanic and Atmospheric Administration's (NOAA) National Marine Sanctuary Program (NMSP) is preparing a Supplemental Draft Environmental Impact Statement (SDEIS) to supplement and/or replace information contained in the Draft Environmental Impact Statement (DEIS) for the Joint Management Plan Review, the management plan review for the Cordell Bank, Gulf of the Farallones, and Monterey Bay National Marine Sanctuaries. The SDEIS will analyze revisions to the proposed action that would in effect prohibit the following discharges within the sanctuaries: All sewage from vessels 300 gross registered tons (GRT) or more with the capacity to hold sewage while within the sanctuary; and, in the Monterey Bay National Marine Sanctuary, all graywater from vessels 300 GRT or more with the capacity to hold graywater while within the sanctuary.

DATES: Because the NMSP has previously requested (64 FR 31528 and 71 FR 29096) and received extensive information from the public on issues to be addressed in the SDEIS, and because the Council on Environmental Quality (CEQ) regulations for implementing the National Environmental Policy Act (NEPA) do not require additional scoping for this SDEIS process (40 CFR 1502.9(c)(4)), the NMSP is not asking for further public scoping information and comment at this time. Upon release of the SDEIS the NMSP will provide a 45-day public review/comment period.

ADDRESSES: Copies of the 2006 DEIS are available at NOAA offices located at 1 Bear Valley Rd., Point Reyes Station, CA; West Crissy Field on the Presidio, 991 Marine Drive, San Francisco, CA, 299 Foam Street, Monterey, California, and on the Web at http://sanctuaries.noaa.gov/jointplan/.

FOR FURTHER INFORMATION CONTACT: Sean Morton at (301) 713-7264 or sean.morton@noaa.gov.

SUPPLEMENTARY INFORMATION: The National Oceanic and Atmospheric Administration (NOAA) has proposed draft revised management plans, revised designation documents, and revised regulations for the Cordell Bank National Marine Sanctuary (CBNMS), Gulf of the Farallones National Marine Sanctuary (GFNMS), and Monterey Bay National Marine Sanctuary (MBNMS). The proposed regulations would revise and provide greater clarity to existing regulations. In particular, NOAA proposed changes to prohibitions regarding “discharge and deposit” in the MBNMS, and prohibiting discharging or depositing most matter from cruise ships.

On May 11, 2007 NOAA received a request from the California State Water Resources Control Board to prohibit discharges from certain vessels in national marine sanctuaries offshore California. In addition, on August 10, 2007, the California Coastal Commission voted to concur with the consistency finding the JMPR actions are consistent with the policies of the California Coastal Management Program, on the condition that NOAA revise the proposed discharge and deposit regulation to prohibit vessels of 300 gross registered tons (GRT) or more from discharging sewage or graywater into the waters of the sanctuaries. After reviewing public comments on the proposed regulations, considering the California Coastal Commission's federal consistency review (per the Coastal Zone Management Act; 16 U.S.C. 1451 et seq.), and further analyzing vessel discharge issues, NOAA decided to revise the CBNMS, GFNMS, and MBNMS proposed discharge regulations to prohibit discharges of all sewage from vessels 300 gross registered tons (GRT) or more with the capacity to hold sewage while within the sanctuary; and in the MBNMS limit the exception for graywater discharges to vessels less than 300 GRT and vessels 300 GRT or more without the capacity to hold graywater while within the MBNMS. The revised proposed regulations will include prohibitions satisfying the request from the State of California for the CBNMS, GFNMS, and MBNMS.

The SDEIS, in conjunction with the concomitant supplemental proposed rule, will evaluate the revised proposed action and provide the public with an opportunity for additional review and comment.

Authority: 16 U.S.C. 1431 et seq.

Federal Domestic Assistance Catalog Number 11.429 Marine Sanctuary Program.

Dated: November 15, 2007.
Elizabeth R. Scheffler,
Associate Assistant Administrator for Management, Ocean Services and Coastal Zone Management.

[FR Doc. E7-22710 Filed 11-20-07; 8:45 am]

BILLING CODE 3510-NK-P